UNITED STATES DEPARTMENT OF JUSTICE

Antitrust Division

Notice Pursuant to the National Cooperative Research and Production Act of 1993—IMS Global Learning Consortium, Inc.

Notice is hereby given that, on March 17, 2022, pursuant to Section 6(a) of the National Cooperative Research and Production Act of 1993, 15 U.S.C. 4301 et seq. (“the Act”), IMS Global Learning Consortium, Inc. (“IMS Global”) has filed written notifications simultaneously with the Attorney General and the Federal Trade Commission disclosing changes in its membership. The notifications were filed for the purpose of extending the Act's provisions limiting the recovery of antitrust plaintiffs to actual damages under specified circumstances. Specifically, 3&Punt Solucions Informatiques SL, Barcelona, SPAIN; HelioCampus, Bethesda, MD; Albuquerque Public Schools, Albuquerque, NM; Allegany County School District (MD), Cumberland, MD; The Center for Reimaging Learning, Cambridge, MA; Effingham County Schools, Springfield, GA; Excel Public School, Mysore, INDIA; Follett School Solutions, McHenry, IL; ILIAS open source e-Learning e.V., Goldammerweg, GERMANY; Kershaw County School District (SC), Camden, SC; Klassroom SAS, Paris, FRANCE; National Center for University Entrance Examinations, Tokyo, JAPAN; Paper, Montreal, CANADA; and South Central Regional Information Center (RIC), Binghamton, NY, have been added as parties to this venture.

Also, N2N Services, Duluth, GA; Manabie International Pte Ltd., Singapore, SINGAPORE; and AEFIS, Philadelphia, PA, have withdrawn as parties to this venture.

No other changes have been made in either the membership or planned activity of the group research project. Membership in this group research project remains open, and IMS Global intends to file additional written notifications disclosing all changes in membership.

On April 7, 2000, IMS Global filed its original notification pursuant to Section 6(a) of the Act. The Department of Justice published a notice in the Federal Register pursuant to Section 6(b) of the Act on September 13, 2000 (65 FR 55283).

The last notification was filed with the Department on December 30, 2021. A notice was published in the Federal Register pursuant to Section 6(b) of the Act on January 13, 2022 (87 FR 2180).

Suzanne Morris,
Chief, Premerger and Division Statistics, Antitrust Division.

[FR Doc. 2022-09457 Filed 5-2-22; 8:45 am]

BILLING CODE P